FEDERAL COMMUNICATIONS COMMISSION

47 CFR Parts 0, 1, 51, and 61

[MD Docket No. 17-357; FCC 17-159]

Closure of FCC Lockbox 979091 Used To File Fees, Tariffs, Petitions, and Applications for Services Related to the Wireline Competition Bureau

AGENCY: Federal Communications Commission.

ACTION: Final rule.

SUMMARY: In this document, the Federal Communications Commission (FCC or Commission) adopted an Order that closes Lockbox 979091 and modifies the relevant rule provisions of filing and making fee payments in lieu of closing the lockbox.

DATES: Effective on February 20, 2018.

FOR FURTHER INFORMATION CONTACT: Roland Helvajian, Office of Managing Director at (202) 418-0444.

SUPPLEMENTARY INFORMATION: This is a summary of the Commission's Order, FCC 17-159, MD Docket No. 17-357, adopted on December 1, 2017 and released on December 18, 2017. The full text of this document is available for public inspection and copying during normal business hours in the FCC Reference Center (Room CY-A257), 445 12th Street SW, Washington, DC 20554, or by downloading the text from the Commission's website at http://transition.fcc.gov/Daily_Releases/Daily_Business/2017/db0906/FCC-17-111A1.pdf.

I. Administrative Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Commission and modernize procedures by amending section 1.1105 of our rules, 47 CFR 1.1105, which sets forth the application fee for petitions filed with the FCC's Wireline Competition Bureau (WCB), to reflect the closure of the post office (P.O.) Box ¹ used for manual filings with WCB. We require the use of an electronic payment system and, wherever possible, electronic filing. Consistent with this change, we also make conforming revisions to sections 0.401, 1.49, 1.51, 1.52, 1.742, 1.1105, 1.1111-1.1113, 1.1119, 51.329(c)(2), 61.13, 61.14, 61.17(d), and 61.20(b) of the Commission's rules, to account for electronic filing of fees, tariffs, petitions, and applications with the WCB, as described more fully below.

¹ A P.O. Box used for the collection of fees is referred to as a “lockbox” in our rules and other Commission documents. The FCC collects application processing fees using a series of P.O. Boxes located at U.S. Bank in St. Louis, Missouri. See 47 CFR 1.1101-1.1109 (setting forth the fee schedule for each type of application remittable to the Commission along with the correct lockbox).

5. Section 1.1105 of the Commission's rules, 47 CFR 1.1105, has provided a schedule of processing fees for applications, tariffs, and petitions processed by the WCB. The rule had also directed filers, who do not utilize the Commission's on-line filing and fee payment systems, to send manual filings and payments to P.O. Box 979091 at U.S. Bank in St. Louis, Missouri.

6. The Commission has reduced its use of P.O. Boxes for the collection of fees and encouraged the use of electronic payment systems for all application and regulatory fees.² We find that electronic payment of fees for applications, tariffs, and petitions processed by the WCB increases the agency's financial efficiency by reducing expenditures, including the annual fee for utilizing the bank's services as well as the cost to manually process each transaction, with little or no inconvenience to our regulatees, applicants and the public.³

² The Commission previously revised its payment rules to encourage electronic payment of application processing fees and require electronic payment of regulatory fees. 47 CFR 1.1112 (application fees) and 1.1158 (regulatory fees). These rules became effective November 30, 2015. 80 FR 66816 (Oct. 30, 2015). More recently, in 2017, we closed a lockbox account and modified the relevant rule provision that required payment of fees via the closed P.O. Box. Amendment of Part 1 of the Commission's Rules, MD Docket No. 17-123, Order, 32 FCC Rcd 4203 (2017), 82 FR 24560 (rel. May 9, 2017) (modifying section 1.1109 of the Commission's rules to delete reference to P.O. Box 979092 at U.S. Bank in St. Louis, Missouri).

³ See Treasury Financial Manual, Bulletin No. 2017-12, “Agency No-Cash or No-Check Policies,” released on September 18, 2017 (explaining the circumstances under which agencies may decide not to accept payments made in cash or by check), available at https://tfm.fiscal.treasury.gov/v1/bull/17-12.pdf (last visited October 18, 2017); see also https://www.gpo.gov/fdsys/pkg/FR-2011-06-16/pdf/2011-15181.pdf.

7. As part of this effort, we are now closing P.O. Box 979091 and modifying the relevant rule provisions that require payment of fees and/or processing of filings via the closed P.O. Box. Our action here to close this lockbox and require electronic payments for any WCB-related fees, as well as encouraging the electronic filing of WCB-related petitions and applications, has implications for existing Commission regulations other than section 1.1105. Thus, we also revise sections 0.401, 1.49, 1.51, 1.52, 1.742, 1.1111, 1.1112, 1.1113, 1.1119, 51.329(c)(2), 61.13, 61.14, 61.17(d), and 61.20 of the Commission's rules. These additional rules are modified to eliminate references to P.O. Box 979091, encourage electronic filing of WCB related applications when practicable, and clarify where other filing rules only apply to paper filings to avoid confusion. For instance, sections 61.13, 61.14, 61.17(d) and 61.20(b) of our rules are revised to require carriers to utilize the electronic filing process for all tariff publications and related documents whenever practicable, and directs manual filers to the web page of the FCC's Office of the Secretary for procedures for submitting hard copies. The rule changes are contained in the Appendix of the Order. We make these changes without notice and comment because they are rules of agency organization, procedure, or practice exempt from the general notice-and-comment requirements of the Administrative Procedure Act, see 5 U.S.C. 553(b)(A).

8. Implementation. As a temporary transition measure, for 90 days after publication of this document in the Federal Register, payments and paper filings to P.O. Box 979091 will continue to be processed by U.S. Bank. After that date, payments for any WCB-related fee or service must be made in accordance with the procedures set forth on the Commission's website, https://www.fcc.gov/licensing-databases/fees. For now, such payments will be made through the Fee Filer Online System (Fee Filer), accessible at https://www.fcc.gov/licensing-databases/fees/fee-filer. As we assess and implement U.S. Treasury initiatives toward an all-electronic payment system, we may transition to other secure payment systems with appropriate public notice and guidance. To file applications, tariffs and petitions processed by the WCB, parties should utilize, as applicable, the Commission's Electronic Tariff Filing System for tariffs, which can be found at https://apps.fcc.gov/etfs/etfsHome.action, or the Electronic Comment Filing System (ECFS) for domestic 214 and other filings referenced in section 1.1105, which can be found at http://apps.fcc.gov/ecfs/upload/display. Petitions filed in hard copy format should be submitted according to the procedures set forth on the web page of the FCC's Office of the Secretary, https://www.fcc.gov/secretary.

III. Ordering Clauses

9. Accordingly, it is ordered, that pursuant to sections 4(i), and 4(j) of the Communications Act of 1934, as amended, 47 U.S.C. 154(i), 154(j), the Order is hereby ADOPTED and the rules set forth in the Appendix of the Order are hereby AMENDED effective February 20, 2018.

List of Subjects

47 CFR Part 0

Organization and functions (Government agencies).

47 CFR Part 1

Administrative practice and procedure, Communications common carriers, and Federal buildings and facilities.

47 CFR Parts 51 and 61

Communications common carriers.

Federal Communications Commission.
Marlene H. Dortch,
Secretary, Office of the Secretary.

Final Rules

For the reasons discussed in the preamble, the Federal Communications Commission amends 47 CFR parts 0, 1, 51, and 61 as follows:

PART 0—COMMISSION AND ORGANIZATION

1. The authority citation for part 0 is revised to read as follows:

Authority: Section 5, 48 Stat. 1068, as amended; 47 U.S.C. 155, 225, unless otherwise noted.

2. Amend § 0.401 by revising paragraphs (a)(1)(iii), (b) introductory text, and (b)(1), removing paragraph (b)(2), and redesignating paragraph (b)(3) as paragraph (b)(2).

The revisions read as follows:

§ 0.401 Location of Commission offices.

* * * * *

(a) * * *

(1) * * *

(iii) Electronic filings, where required, recommended, or permitted, must be transmitted as specified by the Commission or relevant Bureau or Office.

* * * * *

(b) Applications or filings requiring the fees set forth at part 1, subpart G of the rules must be delivered through the appropriate electronic filing system with the correct fee and completed Fee Form attached to the application or filing, unless otherwise directed by the Commission. In the case of any conflict between this rule subpart and other rules establishing filing locations for submissions subject to a fee, this subpart shall govern.

Note to paragraph (b) introductory text: Applicants seeking a waiver or deferral of fees must submit their application or filing in accordance with the addresses set forth below. Applicants claiming a statutory exemption from the fees should file their applications in accordance with paragraph (a) of this section.

(1) Applications and filings submitted by mail shall be submitted following the procedures set forth by the Commission in the appropriate fee rules.

Note to paragraph (b)(1): Wireless Telecommunications Bureau applications that require frequency coordination by certified coordinators must be submitted to the appropriate certified frequency coordinator before filing with the Commission. After coordination, the applications are filed with the Commission as set forth herein. (See §§ 90.127 and 90.175 of this chapter.)

* * * * *

PART 1—PRACTICE AND PROCEDURE

3. The authority citation for part 1 is revised to read as follows:

Authority: 47 U.S.C. 34-39, 151, 154(i), 154(j), 155, 157, 160, 201, 225, 227, 303, 309, 332, 1403, 1404, 1451, 1452, and 1455.

4. Amend § 1.49 by revising the first sentence of paragraph (a) to read as follows:

§ 1.49 Specifications as to pleadings and documents.

(a) All pleadings and documents filed in paper form in any Commission proceeding shall be typewritten or prepared by mechanical processing methods, and shall be filed electronically or on paper with dimensions of A4 (21 cm. x 29.7 cm.) or on 8½ x 11 inch (21.6 cm. x 27.9 cm.) with the margins set so that the printed material does not exceed 6½ x 9½ inches (16.5 cm. x 24.1 cm.). * * *

* * * * *

5. Amend § 1.51 by revising paragraph (a) to read as follows:

§ 1.51 Number of copies of pleadings, briefs, and other papers.

(a) In hearing proceedings, unless filed electronically or otherwise specified by Commission rules, an original and one copy shall be filed, along with-an additional copy for each additional presiding officer at the hearing, if more than one. If filed electronically, additional courtesy copies shall be emailed as directed by the Commission.

* * * * *

6. Amend § 1.52 by revising the fifth sentence to read as follows:

§ 1.52 Subscription and verification.

* * * If filed electronically, a signature will be considered any symbol executed or adopted by the party with the intent that such symbol be a signature, including symbols formed by computer-generated electronic impulses. * * *

7. Revise § 1.742 as follows:

§ 1.742 Place of filing, fees, and number of copies.

All applications which do not require a fee shall be filed electronically through the Commission's Electronic Comment Filing System if practicable. Applications which must be filed in hard copy format should be submitted according to the procedures set forth on the web page of the FCC's Office of the Secretary, https://www.fcc.gov/secretary. Hand-delivered applications will be dated by the Secretary upon receipt (mailed applications will be dated by the Mail Branch) and then forwarded to the Wireline Competition Bureau. All applications accompanied by a fee payment should be filed in accordance with § 1.1105, Schedule of charges for applications and other filings for the wireline competition services.

8. Amend § 1.1105 by revising the introductory text to read as follows:

§ 1.1105 Schedule of charges for applications and other filings for the wireline competition services.

Remit payment for these services electronically using the Commission's electronic filing and payment system, and, where practicable, applications and other substantive filings, in accordance with the procedures set forth on the Commission's website, www.fcc.gov/licensing-databases/fees. Petitions, applications, and other substantive filings in hard copy format are to be submitted according to the procedures set forth on the web page of the FCC's Office of the Secretary, https://www.fcc.gov/secretary.

* * * * *

9. Amend § 1.1111 by revising paragraph (d) to read as follows:

§ 1.1111 Payment of charges.

* * * * *

(d) Applications returned to applicants for additional information or corrections will not require an additional fee when resubmitted, unless the additional information results in an increase of the original fee amount. Those applications not requiring an additional fee should be resubmitted electronically or directly to the Bureau/Office requesting the additional information, as requested. The original fee will be forfeited if the additional information or corrections are not resubmitted by the prescribed deadline. A forfeited application fee will not be refunded. If an additional fee is required, the original fee will be returned and the application must be resubmitted with a new remittance in the amount of the required fee. Applicants should attach a copy of the Commission's request for additional or corrected information to their resubmission.

* * * * *

10. Amend § 1.1112 by revising paragraph (g) to read as follows:

§ 1.1112 Form of payment.

* * * * *

(g) The Commission will furnish a stamped receipt of an application filed by mail or in person only upon request that complies with the following instructions. In order to obtain a stamped receipt for an application (or other filing), the application package must include a copy of the first page of the application, clearly marked “copy”, submitted expressly for the purpose of serving as a receipt of the filing. The copy should be the top document in the package. If hand delivered, the copy will be date-stamped immediately and provided to the bearer of the submission. For submissions by mail, the receipt copy will be provided through return mail if the filer has attached to the receipt copy a stamped self-addressed envelope of sufficient size to contain the date stamped copy of the application. No remittance receipt copies will be furnished. Stamped receipts of electronically-filed applications will not be provided.

11. Amend § 1.1113 by revising paragraph (a)(1), adding a sentence to the end of paragraph (a)(2), and revising paragraph (a)(4) to read as follows:

§ 1.1113 Filing locations.

(a) * * *

(1) Tariff filings shall be filed with the Secretary, Federal Communications Commission, Washington, DC 20554. On the same day, the filer should submit a copy of the cover letter, the FCC Form 159, and the appropriate fee in accordance with the procedures established in § 1.1105.

(2) * * * Electronic payments must include the reference number contained on the bill sent by the Commission.

* * * * *

(4) Applicants claiming an exemption from a fee requirement for an application or other filing under 47 U.S.C. 158(d)(1) or § 1.1116 of this subpart shall file their applications in the appropriate location as set forth in the rules for the service for which they are applying, except that request for waiver accompanied by a tentative fee payment should be filed as set forth in §§ 1.1102 through 1.1109.

* * * * *

12. Amend § 1.1119 by revising paragraphs (c)(1) and (2) as follows:

§ 1.1119 Petitions and applications for review.

* * * * *

(c) * * *

(1) Petitions and applications for review submitted with a fee must be submitted electronically or to the Commission's lock box bank at the address for the appropriate service as set forth in §§ 1.1102 through 1.1107.

(2) If no fee payment is submitted, the request should be filed electronically through the Commission's Electronic Comment Filing System or with the Commission's Secretary.

* * * * *

PART 51—INTERCONNECTION

13. The authority citation for part 51 is revised to read as follows:

Authority: 47 U.S.C. 151-55, 201-05, 207-09, 218, 220, 225-27, 251-54, 256, 271, 303(r), 332, 1302.

14. Amend § 51.329 by revising paragraph (c)(2) as follows:

§ 51.329 Notice of network changes: Methods for providing notice.

* * * * *

(c) * * *

(2) The incumbent LEC's public notice and any associated certifications shall be filed through the Commission's Electronic Comment Filing System (ECFS), using the “Submit a Non-Docketed Filing” module. All subsequent filings responsive to a notice may be filed using the Commission's ECFS under the docket number set forth in the Commission's public notice for the proceeding. If necessary, subsequent filings responsive to a notice also may be filed by sending one paper copy of the filing to “Secretary, Federal Communications Commission, Washington, DC 20554” and one paper copy of the filing to “Federal Communications Commission, Wireline Competition Bureau, Competition Policy Division, Washington, DC 20554.” For notices filed using the Commission's ECFS, the date on which the filing is received by that system will be considered the official filing date. For notices filed via paper copy, the date on which the filing is received by the Secretary or the FCC Mailroom is considered the official filing date. All subsequent filings responsive to a notice shall refer to the ECFS docket number assigned to the notice.

PART 61—TARIFFS

15. The authority citation for part 61 is revised to read as follows:

Authority: Secs. 1, 4(i), 4(j), 201-205 and 403 of the Communications Act of 1934, as amended; 47 U.S.C. 151, 154(i), 154(j), 201-205 and 403, unless otherwise noted.

16. Revise § 61.13 to read as follows:

§ 61.13 Scope.

(a) All issuing carriers that file tariffs are required to file tariff publications electronically, if practicable.

(b) All tariff publications shall be filed in a manner that is compatible and consistent with the technical requirements of the Electronic Tariff Filing System.

(c) Tariff publications which must be filed in hard copy format should be submitted according to the procedures set forth on the web page of the FCC's Office of the Secretary, https://www.fcc.gov/secretary.

17. Amend § 61.14 by revising paragraphs (a) and (b) to read as follows:

§ 61.14 Method of filing publications.

(a) Publications filed electronically must be captioned to “Secretary, Federal Communications Commission, Washington, DC 20554.” The Electronic Tariff Filing System will accept filings 24 hours a day, seven days a week. The official filing date of a publication received by the Electronic Tariff Filing System will be determined by the date and time the transmission ends. If the transmission ends after the close of a business day, as that term is defined in § 1.4(e)(2) of this chapter, the filing will be date and time stamped as of the opening of the next business day.

(b) Carriers are strongly encouraged to submit publications electronically if practicable. Carriers need only transmit one set of files to the Commission. No other copies to any other party are required. Publications which must be filed in hard copy format should be submitted according to the procedures set forth on the web page of the FCC's Office of the Secretary, https://www.fcc.gov/secretary.

* * * * *

18. Amend § 61.17 by revising paragraph (d) to read as follows:

§ 61.17 Applications for special permission.

* * * * *

(d) In addition, for special permission applications requiring fees as set forth in part 1, subpart G of this chapter, carriers shall submit the appropriate fee and associated payment form electronically through the process set forth in § 1.1105 of this chapter and, if practicable, the application and associated documents electronically in accordance with the procedures set forth on the Commission's website, www.fcc.gov/licensing-databases/fees. Applications which must be filed in hard copy format should be submitted according to the procedures set forth on the web page of the FCC's Office of the Secretary, https://www.fcc.gov/secretary.

* * * * *

19. Amend § 61.20 by revising paragraph (b) to read as follows:

§ 61.20 Method of filing publications.

* * * * *

(b) In addition, all tariff publications requiring fees as set forth in part 1, subpart G of this chapter, shall be submitted electronically if practicable in accordance with § 1.1105 of this chapter along with the electronic submission of the payment online form. Petitions which must be filed in hard copy format should be submitted according to the procedures set forth on the web page of the FCC's Office of the Secretary, https://www.fcc.gov/secretary.

[FR Doc. 2018-00596 Filed 1-17-18; 8:45 am]

BILLING CODE 6712-01-P